DEPARTMENT OF TRANSPORTATION

Federal Aviation Administration

14 CFR Part 71

[Docket No. FAA-2009-0203; Airspace Docket No. 09-ASO-12]

Modification of Class D and E Airspace; Albemarle, NC

AGENCY: Federal Aviation Administration (FAA), DOT.

ACTION: Direct final rule; confirmation of effective date; correction.

SUMMARY: This action confirms the effective date of a direct final rule published in the Federal Register May 6, 2009, that modifies Class D and Class E airspace at Stanly County Airport, Albemarle, NC. This action also corrects the True bearing used in the Class D airspace description that was stated incorrectly.

DATES: Effective 0901 UTC, February 11, 2010. The Director of the Federal Register approves this incorporation by reference action under title 1, Code of Federal Regulations, part 51, subject to the annual revision of FAA Order 7400.9 and publication of conforming amendments.

FOR FURTHER INFORMATION CONTACT: Melinda Giddens, Operations Support Group, Federal Aviation Administration, P.O. Box 20636, Atlanta, Georgia 30320; Telephone (404) 305-5610, Fax 404-305-5572.

SUPPLEMENTARY INFORMATION:

History

The rule modifying Class D and E airspace for Stanly County Airport, Albemarle, NC, published in the Federal Register May 6, 2009 (74 FR 20869), became effective August 27, 2009. Subsequent to the effective date of the rule, the FAA found that the True bearing in the Class D description for Stanly County Airport was stated incorrectly. This action corrects that error.

Correction

Accordingly, pursuant to the authority delegated to me, the reference to FAA Order 7400.9 for FR Doc. E9-10397, FAA Airspace Docket No. 09-ASO-12, as published in the Federal Register May 6, 2009 (74 FR 20869), is corrected as follows:

On page 20870, column two, line 38, amend the language to read

71.1 [Amended]

* * * * *

“* * * 037° bearing from Stanly County Airport to 7.8 miles northeast.”

Confirmation of Effective Date

The FAA published this direct final rule with a request for comments modifying Class D and E airspace, Albemarle, NC in the Federal Register on May 6, 2009 (74 FR 20869), Docket No. FAA-2009-0203; Airspace Docket No. 09-ASO-12. The FAA uses the direct final rulemaking procedure for a non-controversial rule where the FAA believes that there will be no adverse public comment. This direct final rule advised the public that no adverse comments were anticipated, and that unless a written adverse comment, or a written notice of intent to submit such an adverse comment, were received within the comment period, the regulation would become effective on August 27, 2009. No adverse comments were received, and thus this notice confirms that effective date.

* * * * *

Issued in College Park, Georgia, on December 9, 2009.
Barry A. Knight,
Acting Manager, Operations Support Group, Eastern Service Center, Air Traffic Organization.

[FR Doc. E9-30286 Filed 12-31-09; 8:45 am]

BILLING CODE 4910-13-P